DEPARTMENT OF AGRICULTURE

Forest Service

Information Collection; Aldo Leopold Wilderness Research Institute Wilderness Visitor Study

AGENCY: Forest Service, USDA.

ACTION: Notice; request for comment.

SUMMARY: In accordance with the Paperwork Reduction Act of 1995, the Forest Service is seeking comments from all interested individuals and organizations on the new information collection: Aldo Leopold Wilderness Research Institute Wilderness Visitor Study.

DATES: Comments must be received in writing on or before August 13, 2010 to be assured of consideration. Comments received after that date will be considered to the extent practicable.

ADDRESSES: Comments concerning this notice should be addressed to Alan Watson, Aldo Leopold Wilderness Research Institute, USDA Forest Service Rocky Mountain Research Station, 790 E. Beckwith Ave., Missoula, MT 59801. Comments also may be submitted via e-mail to: awatson@fs.fed.us.

The public may inspect comments received at the Aldo Leopold Wilderness Research Institute, USDA Forest Service Rocky Mountain Station, 790 E. Beckwith Ave., Missoula, MT, during normal business hours. Visitors are encouraged to call ahead to 406-542-4197 to facilitate entry to the building.

FOR FURTHER INFORMATION CONTACT: Alan Watson, Aldo Leopold Wilderness Research Institute at 406-542-4197. Individuals who use TDD may call the Federal Relay Service (FRS) at 1-800-877-8339, between 8 a.m. and 8 p.m., Eastern Standard Time, Monday through Friday.

SUPPLEMENTARY INFORMATION: Title: Aldo Leopold Wilderness Research Institute Wilderness Visitor Study.

OMB Number: 0596-NEW.

Type of Request: NEW.

Abstract: The Aldo Leopold Wilderness Research Institute in Missoula, Montana, works under an interagency agreement with the Department of the Interior, National Park Service, to provide information to support management planning for public wild lands. Management of specific parks are directed by laws, policies, and Wilderness Stewardship Plans. The Wilderness Act of 1964 directs the National Wilderness Preservation System be managed to protect natural wilderness conditions and to provide outstanding opportunities for the public to find solitude or primitive and unconfined types of recreational experiences. The National Park Service is expected to understand trends in numbers of visitors; patterns of use; and how users feel about administrative facilities, trail conditions, and policies aimed at controlling visitor impacts to wilderness ecosystems.

To help meet the National Park Service's mandates related to wilderness recreation, scientists at the Aldo Leopold Wilderness Research Institute have a long history of periodically monitoring and reporting to managers and the public trends in use, user characteristics, and visitor input on management actions for National Park Wilderness. Emphasis is often on how well the public perceives the National Park Service is meeting the mandate of guiding legislation. National Park personnel use the collected information to ensure that the Agency is meeting their legislated mandates, understanding how visitors' recreational activities influence the natural resources of the park, and making certain that wilderness-type recreation experiences are protected.

Managers at Sequoia and Kings Canyon National Parks have requested assistance from the Aldo Leopold Wilderness Research Institute to gather, analyze, and report on information from visitors to contribute to wilderness stewardship planning. Sequoia and Kings Canyon National Parks in California contain 808,000 acres of federally protected wilderness and another 30,000 acres are managed as wilderness per National Park Service policies. Managers desire to understand visitor attitudes about administrative and scientific facilities in the wilderness, methods used to protect wilderness conditions and social conditions, actions taken by managers to control impacts, visitor perceptions of wilderness character trends, and demographics of visitors. The data from this information collection will be stored at the Aldo Leopold Wilderness Research Institute in Missoula, Montana. Scientists working at the Research Institute will conduct the data analysis.

The National Park Service will use information from this collection to help make the Wilderness Stewardship Plan responsive to legislative and policy guidelines as well as acknowledging a changing client base of American citizens and foreign visitors through creating understanding of:

1. How users feel about such administrative facilities as ranger stations, crew camps, and radio repeaters; user support facilities such as food storage lockers, bridges, and signs; research support facilities such as wells, plot markers, weirs and snow pillows; trail quality; hand held technology use, and short-term manipulations of conditions to achieve long-term naturalness goals;

2. How different kinds of visitors (e.g., overnight users, hikers, stock users, outfitted, and non-outfitted groups) feel about the level of isolation and immersion in nature they perceive; how they evaluate encounters with others; and how they evaluate visitor impacts and management actions taken to control those impacts;

3. How different kinds of users define the most important elements of the wilderness environment and social conditions, such as naturalness, wildness, challenge, self-reliance, crowding, and aesthetics; and

4. How current visitor use characteristics, attitudes and use patterns differ from those observed in the past and at other places, and how they may be projected to differ in the future.

Respondents will be overnight recreation visitors to the wilderness of Sequoia and Kings Canyon National Parks during the summers of 2011 and 2012. Visitors will be contacted from information they provide in their required overnight wilderness permits. Visitors will be provided alternative methods of response to the survey about their recreation experience in the Park: (1) Mail the survey to the Leopold Institute using a postage paid envelope, (2) receive an electronic e-mail form of the survey, or (3) access a web-based form of the electronic survey. All responses will be voluntary. Data collected in this information collection are not available from other sources and nothing comparable has been collected at Sequoia and Kings Canyon National Parks since 1990.

This survey will only ask overnight recreation visitors questions about their recreation visit, their personal demographics relevant to education and service provision, and factors that have influenced or are likely to influence their recreational wilderness visits. Survey respondents will be told that this information is voluntary and in confidence (their names will not be connected to their responses in any way).

Estimate of Annual Burden: 20 minutes.

Type of Respondents: Individuals.

Estimated Annual Number of Respondents: 500.

Estimated Annual Number of Responses per Respondent: 1.

Estimated Total Annual Burden on Respondents: 167 hours.

Comment is invited on: (1) Whether this collection of information is necessary for the stated purposes and the proper performance of the functions of the National Park Service, including whether the information will have practical or scientific utility; (2) the accuracy of the Aldo Leopold Wilderness Research Institute's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: June 7, 2010.
Angela V. Coleman,
Associate Deputy Director, Research & Development.

[FR Doc. 2010-14203 Filed 6-11-10; 8:45 am]

BILLING CODE 3410-11-P